NATIONAL SCIENCE FOUNDATION

Notice of Permit Applications Received Under the Antarctic Conservation Act of 1978

AGENCY: National Science Foundation.

ACTION: Notice of permit applications.

SUMMARY: The National Science Foundation (NSF) is required to publish a notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by November 25, 2016. This application may be inspected by interested parties at the Permit Office, address below.

ADDRESSES: Comments should be addressed to Permit Office, Room 755, Division of Polar Programs, National Science Foundation, 4201 Wilson Boulevard, Arlington, Virginia 22230.

FOR FURTHER INFORMATION CONTACT: Nature McGinn, ACA Permit Officer, at the above address or ACApermits@nsf.gov.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

Application Details

Permit Application: 2017-025

1. Applicant: Andrew G. Fountain, Department of Geology, Portland State University, Portland, OR 97201

Activity for Which Permit Is Requested

Enter Antarctic Specially Protected Area. The applicant proposes to enter ASPA 131, Canada Glacier, to photograph the landscape and to document human disturbance and current conditions. The photographs will be compared to historical photos to assess changing patterns of human activity.

Location

ASPA 131, Canada Glacier, Lake Fryxell. Taylor Valley, Victoria Land

Dates

January 1-31, 2017

Permit Application: 2017-026

2. Applicant: Donald Fortescue, 1764 10th Street, Oakland, CA 94607

Activity for Which Permit Is Requested

Enter Antarctic Specially Protected Area. The applicant is a recipient of an Antarctic Artists & Writers award. The applicant proposes to visit three historic huts in the Ross Sea region for inspiration and to gather audio and video recordings for a mixed media art exhibit. Equipment will include a camera tripod and contact microphones that may be attached to the exterior of the buildings without drilling, clamping, or employing any other damaging methods. The results of this work are expected to be useful for outreach and education about Antarctica and the scientific research conducted there.

Location

ASPA 155, Cape Evans, Ross Island; ASPA 157, Backdoor Bay, Cape Royds, Ross Island; ASPA 158, Hut Point, Ross Island

Dates

December 1, 2016-February 1, 2017.

Nadene G. Kennedy,
Polar Coordination Specialist, Division of Polar Programs.

[FR Doc. 2016-25861 Filed 10-25-16; 8:45 am]

BILLING CODE 7555-01-P